DEPARTMENT OF THE INTERIOR

National Park Service

Meeting

AGENCY: National Park Service, Interior.

ACTION: Notice of meeting; correction.

SUMMARY: On March 9, 2001, the National Park Service published a notice of a meeting of the National Landmarks Committee of the National Park System Advisory Board to be held at 9:00 a.m. on May 8 and May 9, 2001 at the Ann Pamela Cunningham Building, Mount Vernon, Mount Vernon, Virginia 22121.

FOR FURTHER INFORMATION CONTACT: Patricia Henry, National Historic Landmarks Survey, National Register, History, and Education (2280); National Park Service, 1849 C Street, NW; Room NC-400; Washington, DC 20240. Telephone (202) 343-8163.

Correction

In the Federal Register of March 9, 2001, in FR Doc. 01-5935, on page 14198, in the third column, in line 30, “Wyoming” is corrected to read “West Virginia.”

Dated: March 21, 2001.
Carol D. Shull,
Chief, National Historic Landmarks Survey and Keeper of the National Register of Historic Places; National Park Service, Washington, DC.

[FR Doc. 01-7987 Filed 3-30-01; 8:45 am]

BILLING CODE 4310-70-P